DEPARTMENT OF AGRICULTURE

Forest Service

Medbow-Routt Resource Advisory Committee

AGENCY: Forest Service, USDA.

ACTION: Notice of meeting.

SUMMARY: The MedBow-Routt Resource Advisory Committee will meet in Laramie, Wyoming. The committee is meeting as authorized under the Secure Rural Schools and Community Self-Determination Act (Pub. L. 110-343) and in compliance with the Federal Advisory Committee Act. The purpose of the meeting is to review new project proposals and update RAC members on the progress of previously approved projects.

DATES: The meeting will be held July 28, 2011 from 10:30 a.m.-3:30 p.m.

ADDRESSES: The meeting will be held at Forest Supervisor's Office, 2468 Jackson Street, Laramie, Wyoming. Written comments should be sent to Phil Cruz, RAC DFO, 2468 Jackson Street, Laramie, Wyoming 82070. Comments may also be sent via email to pcruz@fs.fed.us, or via facsimile to 307-745-2467.

All comments, including names and addresses when provided, are placed in the record and are available for public inspection and copying. The public may inspect comments received at the Forest Supervisor's Office, 2468 Jackson Street, Laramie, Wyoming.

FOR FURTHER INFORMATION CONTACT: Aaron Voos, RAC Coordinator, 2468 Jackson Street, Laramie, Wyoming 82070, 307-745-2323 or atvoos@fs.fed.us

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review of the status of approved projects; discussion of travel reimbursement, review and discussion of new project proposal and public forum discussion. Persons who wish to bring related matters to the attention of the Committee may file written statements with the Committee staff before or after the meeting. Public input sessions will be provided and individuals who made written requests by July 15, 2011 will have the opportunity to address the Committee at those sessions.

Dated: July 5, 2011.
Phil Cruz,
Forest Supervisor.

[FR Doc. 2011-17582 Filed 7-12-11; 8:45 am]

BILLING CODE 3410-11-P